DEPARTMENT OF HEALTH AND HUMAN SERVICES

Administration for Children and Families

Agency Recordkeeping/Reporting Requirements Under Emergency Review by the Office of Management and Budget (OMB)

Title: Indian Tribes, Tribal Organizations or Tribal Consortia Letter of Intent to Operate a Title IV-E Program.

OMB No.: New Collection.

Description: The Fostering Connections to Success and Increasing Adoptions Act of 2008 (Pub. L. 110-351) added section 479B to the Social Security Act (the Act), which allows Indian Tribes the option to apply to the Secretary to receive Federal funding to support the administration of their own foster care, adoption assistance and relative guardianship programs under title IV-E of the Act. The law also amended the Act at section 476(c)(2)(ii) to allow Indian Tribes to receive one-time development grants of up to $300,000 to be used to offset the cost of developing a title IV-E plan to carry out the requirements of section 479B of the Act, and required ACF to provide technical assistance and implementation services to Indian Tribes regarding the title IV-E program.

In order to plan for the review of Tribal title IV-E plans and technical assistance needs, the Administration for Children and Families (ACF) is requesting that all Federally recognized Indian Tribes, Tribal organizations or Tribal consortia (hereafter, “Tribes”) that plan to operate a title IV-E program send a letter of intent to their ACF Regional Program Manager by December 31, 2008.

ACF will ask Tribes to include in the letter of intent the following information:

1. The Federal fiscal year (FY) in which the Tribe expects to begin operation of a title IV-E program. (According to the law, the earliest possible implementation period is FY 2010.)

2. Information on the intended Tribal service area for the Tribal title IV-E program.

Respondents: Indian Tribes, Tribal organizations and Tribal consortia.

Annual Burden Estimates
Information collection | Number of respondents | Number of responses per respondent | Average burden hours per response | Total burden hours
Letter of Intent | 562 | 1 | 1 | 562

Estimated Total Annual Burden Hours: 562.

Additional Information:ACF is requesting that OMB grant a 90-day approval for this information collection under procedures for emergency processing by November 28, 2008. A copy of this information collection, with applicable supporting documentation, may be obtained by calling the Administration for Children and Families, Reports Clearance Officer, Robert Sargis at (202) 690-7275 or e-mailing to infocollection@acf.hhs.gov.

Comments and questions about the information collection described above should be directed to the Office of Information and Regulatory Affairs, Attn: OMB Desk Officer for ACF, Office of Management and Budget, Paperwork Reduction Project, 725 17th Street, NW., Washington, DC 20503, (202) 395-7316.

Dated: November 13, 2008.
Robert Sargis,
Reports Clearance Officer.

[FR Doc. E8-27668 Filed 11-21-08; 8:45 am]

BILLING CODE 4184-01-M